DEPARTMENT OF COMMERCE

National Oceanic and Atmospheric Administration

RIN 0648-XC363

Caribbean Fishery Management Council; Public Meetings

AGENCY: National Marine Fisheries Service (NMFS), National Oceanic and Atmospheric Administration (NOAA), Commerce.

ACTION: Notice of public meetings.

SUMMARY: The Caribbean Fishery Management Council (Council) and its Administrative Committee will hold meetings.

DATES: The meetings will be held on December 19-20, 2012. The Council will convene on Tuesday, December 19, 2012 from 9 a.m. to 5 p.m., and the Administrative Committee will meet from 5:15 p.m. to 6 p.m. The Council will reconvene on Wednesday, December 20, 2012 from 9 a.m. to 5 p.m.

ADDRESSES: The meetings will be held at the Marriott Frenchman's Reef and Morning Star Hotel, #4 Estate Bakkeroe, St. Thomas, U.S.V.I. 00802.

FOR FURTHER INFORMATION CONTACT: Mr. Miguel A. Rolón, Executive Director, Caribbean Fishery Management Council, 268 Muñoz Rivera Avenue, Suite 1108, San Juan, Puerto Rico 00918-1920, telephone: (787) 766-5926.

SUPPLEMENTARY INFORMATION: The Council will hold its 144th regular Council Meeting to discuss the items contained in the following agenda:

December 19, 2012, 9 a.m.-5 p.m.

• Call to Order

• Adoption of Agenda

• Consideration of 143rd Council Meeting Verbatim Transcriptions

• Executive Director's Report

• Amendment 5 to the Atlantic Highly Migratory Species Fishery Management Plan (FMP)

1. Address results of recent stock assessments for scalloped hammerhead, sandbar, dusky, blacknose, and Gulf of Mexico blacktip sharks

2. Proposed measures to end overfishing and rebuild overfished stocks include establishing total allowable catches and commercial quotas, quota linkages, modifying recreational minimum size and reporting requirements and creating and modifying time/area closures

3. Public comment period for the proposed rule end on February 12, 2013.

• Amendment 4 to the Coral FMP—Removal of Seagrasses Species from the Coral FMP

1. Final action expected by the Council

2. Timeline for implementation of the new regulations

• Regulatory Amendment 4 to the Reeffish FMP—Implementation of Minimum Size Limits for Parrotfish in St. Croix

1. Final action expected by the Council

2. Timeline for implementation of the new regulations

• ACLs—SSC Report

1. 2012 Annual Catch Limits (ACLs) overages by Island

2. Implementation of accountability measures in 213 for any ACLs Overages

• Research Priorities—SSC Report

1. Status of the 5-year research plan

2. Next steps

3. Timeline for completion of the research plan

• Island Specific FMP

1. Environmental assessment for shift in management from species based to island based management

2. Island specific scoping documents

3. Island Specific fishery management plan draft outline

4. Scheduling of scoping hearings

5. Timeline for completion of new island-specific FMPs

Public Comment Period (5-minutes presentations)

December 19, 2012, 5:15 p.m.-6 p.m.

• Administrative Committee Meeting

• Budget 2012/13/14

—SSC/AP Membership

—Other Business

December 20, 2012, 9 a.m.-5 p.m.

• Endangered Species Act Procedures: Updates on Queen Conch, Corals and Nassau Groupers

• CITES: Queen Conch Status—Nancy Daves

• Queen Conch Compatibility Issues with USVI

—Discussion of Management Options

• Outreach and Education Panel Report—Alida Ortíz

—Report of the new CFMC Web site

• NMFS Outreach and Education Projects—Lee Carrubba

• Trap Reduction Spiny Lobster Report—Anthony Iarocci

• STFA Updates on Lobster and Traps Projects, among others

• Enforcement Reports

—Puerto Rico—DNER

—U.S. Virgin Islands—DPNR

—NOAA/NMFS

—U.S. Coast Guard

• Administrative Committee Recommendations

• Meetings Attended by Council Members and Staff

Public Comment Period (5-minute presentations)

• Other Business

• Next Council Meeting

The established times for addressing items on the agenda may be adjusted as necessary to accommodate the timely completion of discussion relevant to the agenda items. To further accommodate discussion and completion of all items on the agenda, the meeting may be extended from, or completed prior to the date established in this notice.

The meetings are open to the public, and will be conducted in English. Simultaneous Interpretation (English/Spanish) will be provided. Fishers and other interested persons are invited to attend and participate with oral or written statements regarding agenda issues.

Although non-emergency issues not contained in this agenda may come before this group for discussion, those issues may not be subjects for formal action during these meetings. Actions will be restricted to those issues specifically identified in this notice, and any issues arising after publication of this notice that require emergency action under section 305(c) of the Magnuson-Stevens Fishery Conservation and Management Act, provided that the public has been notified of the Council's intent to take final action to address the emergency.

Special Accommodations

These meetings are physically accessible to people with disabilities. For more information or request for sign language interpretation and/other auxiliary aids, please contact Mr. Miguel A. Rolón, Executive Director, Caribbean Fishery Management Council, 268 Muñoz Rivera Avenue, Suite 1108, San Juan, Puerto Rico 00918-1920, telephone: (787) 766-5926, at least 5 days prior to the meeting date.

Dated: November 20, 2012.
Tracey L. Thompson,
Acting Deputy Director, Office of Sustainable Fisheries, National Marine Fisheries Service.

[FR Doc. 2012-28552 Filed 11-23-12; 8:45 am]

BILLING CODE 3510-22-P